DEPARTMENT OF THE INTERIOR

Fish and Wildlife Service

Draft Comprehensive Conservation Plan and Environmental Assessment for Illinois River National Wildlife and Fish Refuge (NWFR), Havana, IL

AGENCY: Fish and Wildlife Service, Interior.

ACTION: Notice of availability.

SUMMARY: The U.S. Fish and Wildlife Service (Service) announces that the draft Comprehensive Conservation Plan (CCP) and Environmental Assessment (EA) is available for Illinois River NWFR, Havana, Illinois. The CCP was prepared pursuant to the National Wildlife Refuge System Administration Act of 1966, as amended by the National Wildlife Refuge System Improvement Act of 1997, and the National Environmental Policy Act of 1969, and using the preferred alternative, goals and objectives, we describe how the Service intends to manage these refuges over the next 15 years.

DATES: Comments must be received by close of business Monday, October 20, 2003.

ADDRESSES: Copies of the draft CCP and EA are available on compact diskette or hard copy, you may obtain a copy by writing to: Illinois River National Wildlife and Fish Refuge Complex, 19031 East County Road 2105 North, Havana, Illinois 62644. Comments can be addressed to the same address. The draft CCP and EA is also available online at http://midwest.fws.gov/planning/Ilrivtop.htm and comments can be submitted through the Web site.

FOR FURTHER INFORMATION CONTACT: Ross Adams, Refuge Manager, Illinois River NWFR at 309/535-2290.

SUPPLEMENTARY INFORMATION: Comprehensive conservation plans guide management decisions over the course of 15 years.

The Illinois River NWFR Complex includes three national wildlife refuges: Chautauqua NWR in Mason County; Meredosia NWR in Cass and Morgan Counties; and Emiquon NWR in Fulton County. The planning process began in 1998.

Three management alternatives were considered. Alternative 3, Refuge Resource Area Focus, is the preferred alternative. This alternative would increase conservation efforts in the Illinois River Focus Areas and enhance, protect and restore fish and wildlife habitat within the boundaries of the Illinois River Refuges. There will be no expansion of existing authorized boundaries.

The CCP will identify wildlife-dependent recreational opportunities available to the public, including hunting, fishing, wildlife observation and photography, and environmental education and interpretation.

Dated: July 30, 2003.
Marvin Moriarity,
Acting Regional Director.

[FR Doc. 03-22712 Filed 9-5-03; 8:45 am]

BILLING CODE 4310-55-P